DEPARTMENT OF AGRICULTURE

Grain Inspection, Packers and Stockyards Administration

Deposting of Stockyards

AGENCY: Grain Inspection, Packers and Stockyards Administration, USDA.

ACTION: Notice.

SUMMARY: We are deposting 77 stockyards. These facilities are no longer capable of being used as stockyards and, therefore, are no longer required to be posted.

EFFECTIVE DATE: August 25, 2003.

SUPPLEMENTARY INFORMATION: The Grain Inspection, Packers and Stockyards Administration (GIPSA) administers and enforces the Packers and Stockyards Act of 1921, as amended and supplemented (7 U.S.C. 181-229) (P&S Act). The P&S Act prohibits unfair, deceptive, and fraudulent practices by livestock market agencies, dealers, stockyard owners, meat packers, swine contractors, and live poultry dealers in the livestock, poultry, and meatpacking industries.

Section 302 of the P&S Act (7 U.S.C. 202) defines the term “stockyard” as follows:

* * * any place, establishment, or facility commonly known as stockyards, conducted, operated, or managed for profit or nonprofit as a public market for livestock producers, feeders, market agencies, and buyers, consisting of pens, or other inclosures, and their appurtenances, in which live cattle, sheep, swine, horses, mules, or goats are received, held, or kept for sale or shipment in commerce.

Section 302 (b) of the P&S Act requires the Secretary to determine which stockyards meet this definition, and to notify the owner of the stockyard and the public of that determination by posting a notice in each designated stockyard. After giving notice to the stockyard owner and to the public, the stockyard is subject to the provisions of Title III of the P&S Act (7 U.S.C. 201-203 and 205-217a) until the Secretary deposts the stockyard by public notice.

We depost a stockyard after the facility can no longer be used as a stockyard. Some of the reasons a facility can no longer be used as a stockyard include: the facility has been moved and the posted facility is abandoned, the facility has been torn down or otherwise destroyed, such as by fire, the facility is dilapidated beyond repair, or the facility has been converted and its function changed.

This document notifies the public that the following 77 stockyards no longer meet the definition of stockyard and that we are deposting the facilities.

Facility No. | Stockyard name and location | Date posted
AL-106 | Athens—Limestone Stockyard, Athens, Alabama | November 16, 1971
AL-127 | Geneva County Livestock, Geneva, Alabama | August 27, 1959
AL-162 | Barrett Livestock Market, Inc., Wetumpka, Alabama | June 27, 1978
AL-167 | Kenneth Hinckle Feeder Pig Sale, Piedmont, Alabama | August 28, 1986
AL-186 | Wood's Livestock Market, Ohatchee, Alabama | December 1, 1991
AL-188 | Centre Livestock Market, Inc., Centre Alabama | November 9, 1995
AR-102 | Atkins Livestock Auction, Atkins, Arkansas | January 13, 1970
AR-112 | Eudora Livestock Auction Company, Eudora, Arkansas | August 15, 1958
AR-122 | Imboden Concentration Point, Imboden, Arkansas | February 18, 1970
AR-151 | S & S Livestock, Paragould, Arkansas | March 6, 1974
AR-165 | Beebe Livestock Exchange, Beebe, Arkansas | April 1, 1991
AR-167 | Dunn's Horse and Tack Sale, El Dorado, Arkansas | March 19, 1992
AR-171 | Roden's Auction Service, DeQueen, Arkansas | May 1, 1996
AZ-103 | Layton Livestock Auction, Inc., Tucson, Arizona | October 15, 1957
CA-106 | Rebik Auction Yard, Brawley, California | January 11, 1959
CA-115 | Dixon Livestock Auction Co., Dixon, California | October 6, 1959
CA-172 | Western Auction Co., El Cajon, California | November 8, 1976
CA-179 | Martins Dairy Stockyards, Chino, California | February 21, 1986
CA-187 | Cash & Carry Livestock Sale, Apple Valley, California | November 20, 1993
CO-101 | Mile Hi Livestock Auction Co., Broomfield, Colorado | December 28, 1962
CO-130 | Limon Cattle Auction, L.L.C., Limon, Colorado | March 6, 1957
CO-150 | Monte Vista Livestock Auction, Inc. Ignaco, Colorado | May 8, 1981
IA-188 | Monticello Sale Barn, Monticello, Iowa | October 13, 1965
IA-215 | Sioux City Stock Yards, Sioux City, Iowa | November 1, 1921
ID-105 | Coeur d'Alene Livestock, Inc., Couer d'Alene, Idaho | October 2, 1959
ID-109 | Gooding Livestock Commission Co., Inc., Gooding, Idaho | February 28, 1950
KS-125 | Emmett Livestock Sales, Emmett, Kansas | June 1, 1959
KS-140 | Hiawatha Auction Company, Hiawatha, Kansas | May 25, 1959
KS-147 | Iola Community Sale, Iola, Kansas | May 28, 1959
KS-153 | D. C. Livestock, Lawerence, Kansas | February 15, 1963
KS-200 | Leavenworth Livestock Auction Company, Leavenworth, Kansas | February 7, 1975
KS-206 | Sunflower Horse Auction, Chapman, Kansas | February 12, 1986
KY-114 | Glasgow Livestock Market, Inc., Glasgow, Kentucky | December 11, 1959
LA-107 | Clarks Livestock Auction, Inc., Benton, Louisiana | April 10, 1957
LA-117 | Grand Cane Livestock Sales, Inc., Grand Cane, Louisiana | March 11, 1959
LA-127 | Dominique's Livestock Market, Inc., Marksville, Louisiana | September 28, 1962
MD-100 | Aberdeen Sales Co., Aberdeen, Maryland | October 27, 1959
MN-140 | Princeton Livestock Market, Inc., Princeton, Minnesota | October 15, 1959
MS-153 | E & E Livestock, Inc., Tupelo, Mississippi | May 17, 1974
MS-166 | Granger Trading Barn, Halzlehurst, Mississippi | February 21, 1993
MS-168 | S & S Sales, Mantachie, Mississippi | January 8, 1996
MS-169 | McDermott Sale Company, Byhalia, Mississippi | October 24, 1996
MT-104 | Montana Livestock Auction, Butte, Montana | February 14, 1950
NC-126 | Stanley County Livestock Market, Norwood, North Carolina | March 31, 1961
NC-161 | Mount Olive Livestock Market, Inc., Faison, North Carolina | February 2, 1990
NY-100 | Empire Livestock Adams Sales, Adams, New York | August 4, 1960
NY-106 | Sunny Acres Livestock Market, Bombay, New York | September 20, 1960
NY-126 | Johnstown Livestock Sales, Inc., Johnstown, New York | June 14, 1965
NY-130 | Thomas Commission Company, Malone, New York | December 7, 1960
NY-131 | Milford Commission Sales Stables, Inc., Milford, New York | August 17, 1960
NY-133 | Newman's Livestock Exchange, Inc., Newport, New York | September 15, 1962
NY-136 | Empire Livestock Marketing Cooperative, Inc., Owego, New York | July 11, 1960
NY-162 | Englan Select Sales, Inc., Madison, New York | June 30, 1981
NY-165 | Angelica Feeder Sales Cooperative, Inc., Angelica, New York | September 5, 1986
NY-169 | Baurer Horse and Tack Auction, Lyons, New York | October 24, 1989
NY-172 | The Bar W Ranch & Sales, Shushan, New York | November 11, 1994
OK-106 | Ardmore Livestock Auction and Ringling Livestock Auction, Ardmore, Oklahoma | November 15, 1949
OK-122 | Dewey Stockyards, Dewey, Oklahoma | August 31, 1964
OK-145 | Marietta Livestock Auction Sale, Marietta, Oklahoma | April 7, 1959
OK-159 | Perkins “Y” Livestock Auction, Inc., Perkins, Oklahoma | April 27, 1959
OK-164 | Ringling Livestock Auction, Ringling, Oklahoma | March 6, 1950
OK-197 | Alva Sales Company, Inc., Alva, Oklahoma | November 10, 1977
OK-198 | Erin Springs Livestock Auction, Erin Springs, Oklahoma | November 25, 1978
OR-103 | Corvallis Auction Yard, Inc., Corvallis, Oregon | September 22, 1959
OR-116 | Portland Livestock Exchange, North Portland, Oregon | November 1, 1921
OR-126 | Mikes Livestock Auction, Eagle Point, Oregon | January 1, 1996
TN-113 | Covington Sales Company, Covington, Tennessee | June 19, 1959
TN-157 | Scotts Hill Sales Barn, Scotts Hill, Tennessee | May 7, 1959
TN-181 | Murfreesboro Livestock Market, Murfreesboro, Tennessee | October 27, 1983
TN-189 | Middle Tennessee Horse Sale, Decherd, Tennessee | July 17, 1993
TN-190 | H Bar M Horse Auction, Athens, Tennessee | September 13, 1993
UT-101 | Delta Livestock Exchange L.L.C., Delta, Utah | January 28, 1955
UT-117 | Parker Sales, Logan, Utah | June 18, 1992
UT-118 | Ogden Livestock Auction, Inc., Farr West, Utah | January 27, 1994
VT-102 | Thomas Hichack Company Commission Sales, Morrisville, Vermont | November 18, 1959
VT-111 | Roberts Livestock and Auctioneering—Sales & Auction Barn, Newport, Vermont | March 20, 1986
WA-117 | Britton Brothers, Snohomish, Washington | September 22, 1959

Effective Date

This notice is effective upon publication in the Federal Register because it relieves a restriction and, therefore, may be made effective in less than 30 days after publication in the Federal Register without prior notice or other public procedure.

Authority: 7 U.S.C. 202.

Dated: August 20, 2003.
Donna Reifschneider,
Administrator, Grain Inspection, Packers and Stockyards Administration.

[FR Doc. 03-21664 Filed 8-22-03; 8:45 am]

BILLING CODE 3410-EN-U